DEPARTMENT OF HEALTH AND HUMAN SERVICES

National Institutes of Health

Center for Scientific Review; Amended Notice of Meeting

Notice is hereby given of a change in the meeting of the Center for Scientific Review Special Emphasis Panel Member Conflict: Cell Biology, Biochemistry, and Aging, November 21, 2022, 12:00 p.m. to November 21, 2022, 6:00 p.m., National Institutes of Health, 6701 Rockledge Drive, Bethesda, MD 20892, which was published in the Federal Register on October 24, 2022, 87 FR 64241 Doc 2022-23066.

This meeting is being amended to change the meeting start date from November 21, 2022, to November 22, 2022. The meeting is closed to the public.

Dated: October 26, 2022.
Tyeshia M. Roberson-Curtis,
Program Analyst, Office of Federal Advisory Committee Policy.

[FR Doc. 2022-23638 Filed 10-28-22; 8:45 am]

BILLING CODE 4140-01-P